DEPARTMENT OF COMMERCE

National Oceanic and Atmospheric Administration

Agency Information Collection Activities; Submission to the Office of Management and Budget (OMB) for Review and Approval; Comment Request; Alaska Cost Recovery and Fee Programs

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 29, 2021, during a 60-day comment period. This notice allows for an additional 30 days for public comments.

Agency: National Oceanic and Atmospheric Administration (NOAA), Commerce.

Title: Alaska Cost Recovery and Fee Programs.

OMB Control Number: 0648-0711.

Form Number(s): None.

Type of Request: Regular submission (Revision and extension of a current information collection).

Number of Respondents: 1,722.

Average Hours per Response: Fee payments: 1 minute; volume and value reports (electronic submission): 1 minute; IFQ Registered Buyer Ex-vessel Volume and Value Report (non-electronic submission): 2 hours; fee calculation forms: 30 minutes; administrative appeals: 4 hours.

Total Annual Burden Hours: 82 hours.

Needs and Uses: The National Marine Fisheries Service, Alaska Regional Office (NMFS AKR), is requesting renewal and revision of a currently approved information collection that contains requirements for the NMFS AKR cost recovery fee programs and the observer coverage fee program.

Three revisions are requested for this collection. A slight revision is requested to change the title of the collection from “Alaska Quota Cost Recovery Programs” to “Alaska Cost Recovery and Fee Programs.” Revisions are necessary to two forms because NMFS AKR has finished transitioning to online fee payments and these forms are no longer used to submit payments by mail. The IFQ Permit Holder Fee Submission Form and the Registered Crab Receiver Fee Submission Form have been revised and renamed the IFQ Permit Holder Fee Calculation Form and the Registered Crab Receiver Fee Calculation Form, respectively.

This information collection is necessary under the Magnuson-Stevens Fishery Conservation and Management Act (Magnuson-Stevens Act), which authorizes observer deployment fees and cost recovery fees. Section 304(d) of the Magnuson-Stevens Act authorizes and requires the collection of cost recovery fees for limited access privilege programs and community development quota programs. Section 313 of the Magnuson-Stevens Act authorizes a system of fees to support a fisheries research plan and deploy observers in the North Pacific fisheries. The fee documentation forms and volume and value reports that are included in this collection are necessary to track, verify, and enforce the fee collection systems.

This information collection is required in Federal regulations at 50 CFR parts 679 and 680. Information on the observer coverage fee and cost recovery fee programs is provided on the NMFS Alaska Region website at https://www.fisheries.noaa.gov/alaska/commercial-fishing/cost-recovery-programs-fee-collection-and-fee-payment-alaska.

Cost recovery fees may not exceed 3 percent of the ex-vessel value of the fishery, and must recover the incremental (program) costs associated with management, data collection, and enforcement of these programs that are directly incurred by government agencies tasked with overseeing these fisheries. NMFS recovers program costs of seven cost recovery programs in this information collection: Pacific Halibut and Sablefish Individual Fishing Quota (IFQ) Program; Bering Sea and Aleutian Islands Crab Rationalization Program; Central Gulf of Alaska Rockfish Program; Western Alaska Community Development Quota Program; American Fisheries Act Program; Aleutian Islands Pollock Program; and Amendment 80 Program. The party responsible for paying the cost recovery fee varies by program.

The observer coverage fee funds deployment of observers and electronic monitoring in the partial coverage category of the North Pacific Observer Program (Observer Program). Unlike the cost recovery fees, this is a straight fee and does not recover incremental costs associated with the program. NMFS assesses a fee of 1.65 percent of the ex-vessel value of groundfish and halibut landed in the partial coverage category under the Observer Program. The information collected by observers provides scientific information for minimizing bycatch and managing the groundfish and halibut fisheries in the Bering Sea and Aleutian Islands and Gulf of Alaska.

Catcher vessel owners split the observer coverage fee with the registered buyers or owners of shoreside or stationary floating processors. While the owners of catcher vessels and processors in the partial coverage category are each responsible for paying their portion of the fee, the owners of shoreside or stationary floating processors and registered buyers are responsible for collecting the fees from catcher vessels, and remitting the full fee to NMFS. Owners of catcher/processors in the partial coverage category are responsible for remitting the full fee to NMFS.

Processors that receive and purchase landings of IFQ halibut or sablefish, rockfish, groundfish, and crab subject to observer and/or cost recovery fees must annually submit an ex-vessel volume and value report that provides information on the pounds purchased and value paid. NMFS uses this information to establish the total ex-vessel value of the fishery, calculate standard prices, and establish annual fee percentages in each fishery.

IFQ permit holders and registered crab receivers that do not agree with their NMFS assessed fee liability summary and who are paying a revised fee, use the fee calculation forms to calculate and submit documentation supporting their revised fee.

Any person who receives an initial administrative determination for incomplete payment of a cost recovery fee or observer coverage fee may appeal under the appeals procedures set out at 15 CFR part 906.

Affected Public: Business or other for-profit organizations; Individuals or households.

Frequency: Annually; as needed.

Respondent's Obligation: Mandatory, Required to Obtain or Retain Benefits.

Legal Authority: Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0711.

Sheleen Dumas,
Department PRA Clearance Officer, Office of the Chief Information Officer, Commerce Department.

[FR Doc. 2022-05946 Filed 3-18-22; 8:45 am]

BILLING CODE 3510-22-P